DEPARTMENT OF HEALTH AND HUMAN SERVICES

Agency for Healthcare Research and Quality

Supplemental Evidence and Data Request on Measures for Primary Healthcare Spending

AGENCY: Agency for Healthcare Research and Quality (AHRQ), HHS.

ACTION: Request for supplemental evidence and data submissions.

SUMMARY: The Agency for Healthcare Research and Quality (AHRQ) is seeking scientific information submissions from the public. Scientific information is being solicited to inform our review on Measures for Primary Healthcare Spending, which is currently being conducted by the AHRQ's Evidence-based Practice Centers (EPC) Program. Access to published and unpublished pertinent scientific information will improve the quality of this review.

DATES: Submission Deadline on or before June 26, 2023.

ADDRESSES:

Email submissions: epc@ahrq.hhs.gov.

Print submissions:

Mailing Address: Center for Evidence and Practice Improvement, Agency for Healthcare Research and Quality, ATTN: EPC SEADs Coordinator, 5600 Fishers Lane, Mail Stop 06E53A, Rockville, MD 20857.

Shipping Address (FedEx, UPS, etc.): Center for Evidence and Practice Improvement, Agency for Healthcare Research and Quality, ATTN: EPC SEADs Coordinator, 5600 Fishers Lane, Mail Stop 06E53A, Rockville, MD 20857.

FOR FURTHER INFORMATION CONTACT: Kelly Carper, Telephone: 301-427-1656 or Email: epc@ahrq.hhs.gov.

SUPPLEMENTARY INFORMATION: The Agency for Healthcare Research and Quality has commissioned the Evidence-based Practice Centers (EPC) Program to complete a review of the evidence for Measures for Primary Healthcare Spending. AHRQ is conducting this technical brief pursuant to Section 902 of the Public Health Service Act, 42 U.S.C. 299a.

The EPC Program is dedicated to identifying as many studies as possible that are relevant to the questions for each of its reviews. In order to do so, we are supplementing the usual manual and electronic database searches of the literature by requesting information from the public (e.g., details of studies conducted). We are looking for studies that report on Measures for Primary Healthcare Spending, including those that describe adverse events. The entire research protocol is available online at: https://effectivehealthcare.ahrq.gov/products/primary-healthcare-spending.

This is to notify the public that the EPC Program would find the following information on Measures for Primary Healthcare Spending helpful:

A list of completed studies that your organization has sponsored for this indication. In the list, please indicate whether results are available on ClinicalTrials.gov along with the ClinicalTrials.gov trial number.

For completed studies that do not have results on ClinicalTrials.gov, a summary, including the following elements: study number, study period, design, methodology, indication and diagnosis, proper use instructions, inclusion and exclusion criteria, primary and secondary outcomes, baseline characteristics, number of patients screened/eligible/enrolled/lost to follow-up/withdrawn/analyzed, effectiveness/efficacy, and safety results.

A list of ongoing studies that your organization has sponsored for this indication. In the list, please provide the ClinicalTrials.gov trial number or, if the trial is not registered, the protocol for the study including a study number, the study period, design, methodology, indication and diagnosis, proper use instructions, inclusion and exclusion criteria, and primary and secondary outcomes.

Description of whether the above studies constitute ALL Phase II and above clinical trials sponsored by your organization for this indication and an index outlining the relevant information in each submitted file.

Your contribution is very beneficial to the Program. Materials submitted must be publicly available or able to be made public. Materials that are considered confidential; marketing materials; or information on indications not included in the review cannot be used by the EPC Program. This is a voluntary request for information, and all costs for complying with this request must be borne by the submitter.

The draft of this review will be posted on AHRQ's EPC Program website and available for public comment for a period of 4 weeks. If you would like to be notified when the draft is posted, please sign up for the email list at: https://www.effectivehealthcare.ahrq.gov/email-updates.

The technical brief will answer the following questions. This information is provided as background. AHRQ is not requesting that the public provide answers to these questions.

Guiding Questions

The five questions below guide our work in synthesizing a description of research, ongoing efforts, and directions in measuring primary care spending.

1. What are the definitions, data sources, and methodologies used to estimate primary care spending in published reports?

a. How do these various primary care spending estimation methods vary by:

i. Relative pros and cons of each estimation method

ii. Administrative burden

iii. Range of spending estimates

iv. Sensitivity analyses

b. What is the evidence of the relationship between different primary care spending estimation methods and the absolute and relative levels of primary care spending and health outcomes including morbidity, mortality, quality of life, and health equity?

2. What are the research gaps in understanding primary care spending estimation methods based on the findings of the evidence map?

3. What are considerations for developing valid and standardized estimation of primary care spending?

4. What are approaches that health economists, health services researchers, payers, health systems, and policymakers can employ to develop and implement a standardized measure of primary care spending and to assess spending over time, across payers/populations, and across states?

5. Contextual Questions:

a. Is there any emerging consensus among experts in the field toward a standard or preferred method for assessment of primary care spending?

b. How have policymakers and other decision makers used primary care spending measures?

Dated: May 22, 2023.
Marquita Cullom,
Associate Director.

[FR Doc. 2023-11252 Filed 5-25-23; 8:45 am]

BILLING CODE 4160-90-P